DEPARTMENT OF THE INTERIOR

National Park Service

National Register of Historic Places; Notification of Pending Nominations

Nominations for the following properties being considered for listing in the National Register were received by the National Park Service before December 30, 2000. Pursuant to § 60.13 of 36 CFR Part 60 written comments concerning the significance of these properties under the National Register criteria for evaluation may be forwarded to the National Register, National Park Service, 1849 C St. NW, NC400, Washington, DC 20240. Written comments should be submitted by January 25, 2001.

Carol D. Shull,
Keeper of the National Register.

ARIZONA

Coconino County

USFS Fort Valley Experimental Forest Station Historic District, ⅓ mi. W. of Jct. US 180 and Bader Rd., Flagstaff, 01000002

ARKANSAS

Pulaski County

Doe Branch Post Office, 32100 Kanis Rd., Ferndale, 01000003

FLORIDA

Leon County

Tookes House, 412 West Virginia Ave., Tallahassee, 01000004

Seminole County

Ritz Theater, 201 S. Magnolia Ave., Sanford, 01000005

LOUISIANA

Lincoln Parish

James, T.L., Building, 106 W. Mississippi, Ruston, 01000006

St. Mary Parish

Albania Plantation House, 1842 LA 182 E., Jeanerette, 01000007

St. Tammany Parish

Cousin, Francois, House, (Louisiana's French Creole Architecture MPS) 58148 Gwin Rd., Slidell, 01000008

MISSOURI

Cole County

Porth, Dr. Joseph P. and Effie, House, 631 W. Main St., Jefferson City, 01000009

Grundy County

Plaza Hotel, 715 Main St., Trenton, 01000010

Howell County

Elledge Arcade Buildings, 28 Court Sq. and 2 Elledge Arcade, West Plains, 01000011

Smith, W.J. and Ed, Building, 109-113 Washington Ave., West Plains, 01000012

West Plains Bank Building, 107 Washington Ave., West Plains, 01000013

Jackson County

Tromanhauser, Norman, House, 3603 W. Roanoke Dr., Kansas City, 01000014

NORTH CAROLINA

Johnston County

Watson—Sanders House, 2810 Brogden Rd., Smithfield, 01000015

Orange County

Hogan, Thomas and Mary, House, 9118 Hillsborough Rd., Carrboro, 01000016

Rowan County

Granite Quarry School, 706 Dunn's Mountain Rd., Granite Quarry, 01000017

RHODE ISLAND

Newport County

Boyd's Windmill, Prospect Ave., Middletown, 01000018

Providence County

Mathewson Farm, 544 Greenville Ave., Johnston, 01000019

SOUTH DAKOTA

Minnehaha County

Farley—Loetscher Company Building, 701-705 E. 8th St., Sioux Falls, 01000020

[FR Doc. 01-619 Filed 1-9-01; 8:45 am]

BILLING CODE 4310-70-P